DEPARTMENT OF COMMERCE

International Trade Administration

[A-201-842]

Large Residential Washers From Mexico: Final Results of the Expedited First Five-Year Sunset Review of the Antidumping Duty Order

AGENCY: Enforcement and Compliance, International Trade Administration, Department of Commerce.

SUMMARY: As a result of this sunset review, Commerce finds that revocation of this antidumping duty order would be likely to lead to continuation or recurrence of dumping at the levels indicated in the “Final Results of Review” section of this notice.

DATES: Applicable May 10, 2018.

FOR FURTHER INFORMATION CONTACT: Ross Belliveau, AD/CVD Operations, Office II, Enforcement and Compliance, International Trade Administration, U.S. Department of Commerce, 1401 Constitution Avenue NW, Washington, DC 20230; telephone: (202) 482-4952.

SUPPLEMENTARY INFORMATION:

Background

On February 15, 2013, Commerce published its antidumping duty order on large residential washers from Mexico in the Federal Register.¹ On January 2, 2018, Commerce initiated the first sunset review of the antidumping duty order on large residential washers from Mexico, in accordance with section 751(c) of the Tariff Act of 1930, as amended (the Act).² Commerce received a notice of intent to participate from Whirlpool Corporation (Whirlpool), within the deadline specified in 19 CFR 351.218(d)(1)(i).³ Whirlpool claimed interested party status under section 771(9)(C) of the Act, as a domestic producer of large residential washers.

¹ See Large Residential Washers from Mexico and the Republic of Korea: Antidumping Duty Orders, 78 FR 11148 (February 15, 2013) (Order).

² See Initiation of Five-Year (Sunset) Review, 83 FR 100 (January 2, 2018) (Initiation).

³ See Letter from Whirlpool re: “Five-Year (“Sunset”) Review of Antidumping and Countervailing Duty Orders on Large Residential Washers from Mexico and the Republic of Korea: Notice of Intent to Participate,” dated January 17, 2018.

Commerce exercised its discretion to toll all deadlines affected by the closure of the Federal Government from January 20 through January 22, 2018. As a result, the revised deadline for the final results of this review is now May 7, 2018.⁴

⁴ See Memorandum, “Deadlines Affected by the Shutdown of the Federal Government,” dated January 23, 2018. All deadlines in this segment of the proceeding have been extended by three days.

Commerce received a substantive response from Whirlpool ⁵ within the 30-day deadline specified in 19 CFR 351.218(d)(3)(i). We received no substantive response from any other domestic or interested parties in this proceeding, nor was a hearing requested.

⁵ See Letter from Whirlpool re: “Five-Year (“Sunset”) Review of Antidumping Duty Order on Large Residential Washers from Mexico: Substantive Response of Whirlpool Corporation to the Notice of Initiation of First Sunset Review,” dated February 5, 2018 (Whirlpool Substantive Response).

On February 23, 2018, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of this antidumping duty order.

⁶ See Letter re: “Sunset Reviews Initiated on January 2, 2018,” dated February 23, 2018.

Scope of the Order

The products covered by the Order are all large residential washers and certain subassemblies thereof from Mexico. The products are currently classifiable under subheadings 8450.20.0040 and 8450.20.0080 of the Harmonized Tariff Schedule of the United States (HTSUS).

Products subject to this Order may also enter under HTSUS subheadings 8450.11.0040, 8450.11.0080, 8450.90.2000, and 8450.90.6000. Although the HTSUS subheadings are provided for convenience and customs purposes, the written description of the merchandise subject to this scope is dispositive.⁷

⁷ For a complete description of the Scope of the Order, see Memorandum “Issues and Decision Memorandum for the Final Results of First Sunset Review of the Antidumping Duty Order on Large Residential Washers from Mexico,” dated concurrently with this notice (Issues and Decision Memorandum).

Analysis of Comments Received

All issues raised in this sunset review are addressed in the Issues and Decision Memorandum, which is hereby adopted by this notice. The issues discussed in the Issues and Decision Memorandum are the likelihood of continuation or recurrence of dumping, and the magnitude of the margins of dumping likely to prevail if this order were revoked. The Issues and Decision Memorandum is a public document and is on file electronically via the Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/. The signed Issues and Decision Memorandum and the electronic version of the Issues and Decision Memorandum are identical in content.

Final Results of Review

Pursuant to sections 751(c)(1) and 752(c)(1) and (3) of the Act, we determine that revocation of the antidumping duty Order on large residential washers from Mexico would be likely to lead to continuation or recurrence of dumping and that the magnitude of the dumping margins likely to prevail would be weighted-average margins up to 72.41 percent.

Notification Regarding Administrative Protective Order

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

This five-year (sunset) review and notice are in accordance with sections 751(c), 752(c), and 777(i)(1) of the Act and 19 CFR 351.218.

Dated: May 4, 2018.
Gary Taverman,
Deputy Assistant Secretary for Antidumping and Countervailing Duty Operations, performing the non-exclusive functions and duties of the Assistant Secretary for Enforcement and Compliance.

[FR Doc. 2018-09948 Filed 5-9-18; 8:45 am]

BILLING CODE 3510-DS-P